SECURITIES AND EXCHANGE COMMISSION

[File No. 500-1]

In the Matter of Image Globe Solutions, Inc.; Order of Suspension of Trading

April 24, 2006.

It appears to the Securities and Exchange Commission that there is a lack of current and accurate information concerning the securities of Image Globe Solutions, Inc. (“Image Globe”), a Nevada corporation headquartered in Toronto, Ontario. Questions have arisen regarding the accuracy of assertions by Image Globe, and by others, in press releases and internet postings to investors concerning, among other things: (1) The company's assets, (2) the stated financing of the company's operations, (3) the company's private placement of 10 million shares of its common stock in January 2006, and (4) the company's stated investments in other start-up businesses.

The Commission is of the opinion that the public interest and the protection of investors require a suspension of trading in the securities of the above listed company.

Therefore, it is ordered, pursuant to Section 12(k) of the Securities Exchange Act of 1934, that trading in the above listed company is suspended for the period from 9:30 a.m. e.d.t., April 24, 2006, through 11:59 p.m. e.d.t., on May 5, 2006.

By the Commission.
Nancy M. Morris,
Secretary.

[FR Doc. 06-3980 Filed 4-24-06; 11:44 am]

BILLING CODE 8010-01-P